NATIONAL SCIENCE FOUNDATION

Notice of Permit Applications Received Under the Antarctic Conservation Act of 1978 (Pub. L. 95-541)

AGENCY: National Science Foundation

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by October 20, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant—Permit Application No. 2011-016, Paul Ponganis, Center for Marine Biotechnology and Biomedicine, Scripps Institution of Oceanography, University of California, San Diego, La Jolla, CA 92093-0204.

Activity for Which Permit Is Requested

Take, Enter Antarctic Specially Protected Areas, and Import into the USA. The applicant plans to study the diving physiology and behavior of emperor penguins at sea. Physiological responses underlie the dive capacity and the ability to successfully forage at depth. Heart rate, in particular, is key to the management of oxygen stores at seas, and the ability of birds to perform repetitive deep dives. The will deploy electro-cardiogram recorders and dive behavior recorders on birds making foraging trips to sea from Cape Washington.

In addition, censusing of birds will be conducted to continue the long term population monitoring of the Ross Sea emperor penguin population (day visits to Cape Crozier, ASPA 124 and Beaufort Island ASPA 105 colonies, aerial censuses of Franklin Island, Cape Colbeck, Coulman Island and Cape Roget, and photo/counting census at Cape Washington, including abandoned egg and chick carcass counts, and assessment of check health.)

Leopard seal research assesses the impact of leopard seals on the emperor colony as well as the hunting strategies of leopard seals. Leopard seals will be sedated for weighing and attachment of a backpack camera and radio transmitter. The camera and radio transmitter will be removed after about a week.

Location

Cape Crozier (ASPA 124), Beaufort Island (ASPA 105), and Cape Washington.

Dates

October 1, 2010 to December 31, 2011.

Nadene G. Kennedy,
Permit Officer, Office of Polar Programs.

[FR Doc. 2010-23329 Filed 9-17-10; 8:45 am]

BILLING CODE 7555-01-P